SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: October 1-31, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above:

Grandfathering Registration Under 18 CFR Part 806, Subpart E:

1. Alexandria Borough Water Authority—Public Water Supply System, GF Certificate No. GF-202110188, Alexandria Borough, Huntingdon County, Pa.; Robinson Run and Well 2; Issue Date: October 22, 2021.

2. Aqua Pennsylvania, Inc.—Roaring Creek Division, GF Certificate No. GF-202110189, Conyngham Township, Columbia County, Pa.; Brush Valley Well 1 and Brush Valley Well 2; Issue Date: October 22, 2021.

3. City of Lebanon Authority—Public Water Supply System, GF Certificate No. GF-202110190, Union Township, Lebanon County, and Pine Grove Township, Schuylkill County, Pa.; Siegrist Dam and Swatara Creek; Issue Date: October 26, 2021.

4. Borough of Oxford—Public Water Supply System, GF Certificate No. GF-202110191, Oxford Borough, Chester County, Pa.; consumptive use; Issue Date: October 26, 2021.

Dated: November 8, 2021.
Jason E. Oyler,
General Counsel and Secretary to the Commission.

[FR Doc. 2021-24708 Filed 11-10-21; 8:45 am]

BILLING CODE 7040-01-P